ENVIRONMENTAL PROTECTION AGENCY

[EPA-HQ-OPP-2012-0937; FRL-9374-8]

3-Decen-2-One; Receipt of Application for Emergency Exemption, Solicitation of Public Comment

AGENCY: Environmental Protection Agency (EPA).

ACTION: Notice.

SUMMARY: EPA has received a specific exemption request from the Wisconsin Department of Agriculture, Trade, and Consumer Protection to use the pesticide 3-decen-2-one (CAS No. 10519-33-2) to treat up to 500,000 tons of potatoes with 3-decen-2-one to burn-off potato sprouts in storage facilities. The applicant proposes the use of a new chemical which has not been registered by the EPA. EPA is soliciting public comment before making the decision whether or not to grant the exemption.

DATES: Comments must be received on or before January 31, 2013.

ADDRESSES: Submit your comments, identified by docket identification (ID) number EPA-HQ-OPP-2012-0937 by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), Mail Code: 28221T, 1200 Pennsylvania Ave. NW., Washington, DC 20460-0001.

• Hand Delivery: To make special arrangements for hand delivery or delivery of boxed information, please follow the instructions at http://www.epa.gov/dockets/contacts.htm.

Additional instructions on commenting or visiting the docket, along with more information about dockets generally, is available at http://www.epa.gov/dockets.

FOR FURTHER INFORMATION CONTACT: Amaris Johnson, Registration Division (7505P), Office of Pesticide Programs, Environmental Protection Agency, 1200 Pennsylvania Ave. NW., Washington, DC 20460-0001; telephone number: (703) 305-9542; fax number: (703) 605-0781; email address: johnson.amaris@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through www.regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low income populations, in the development, implementation, and enforcement of environmental laws, regulations, and policies. To help address potential environmental justice issues, the Agency seeks information on any groups or segments of the population who, as a result of their location, cultural practices, or other factors, may have a typical or disproportionately high and adverse human health impacts or environmental effects from exposure to the pesticide(s) discussed in this document, compared to the general population.

II. What action is the agency taking?

Under section 18 of the Federal Insecticide, Fungicide, and Rodenticide Act (FIFRA) (7 U.S.C. 136p), at the discretion of the Administrator, a Federal or State agency may be exempted from any provision of FIFRA if the Administrator determines that emergency conditions exist which require the exemption. The Wisconsin Department of Agriculture, Trade and Consumer Protection has requested the EPA Administrator to issue a specific exemption for the use of 3-decen-2-one on potatoes in storage facilities to burn off already emerged sprouts. Information in accordance with 40 CFR part 166 was submitted as part of this request.

As part of this request, the applicant asserts that the 2012 growing season started 2-3 weeks early and was unseasonably warmer by 3-5 degrees Fahrenheit. This resulted in potatoes sprouting early in storage facilities, and thus the need to control the sprouting to prevent potential economic loss. Buyers can reject or mark down full loads of potatoes even if minor sprouting is observed. Currently, there are many stored potatoes with sprouts greater than 1 millimeter (mm) in Wisconsin. 3-decen-2-one is the best option for stored potatoes because it burns off existing sprouts, even those greater than 1 mm. The majority of alternatives do not burn off existing sprouts nor can they be used on sprouts greater than 1 mm. If the use of 3-decen-2-one is not permitted, the economic loss to the state of Wisconsin is estimated at 40% of the state's potato crop or up to 500,000 tons.

The applicant proposes to make no more than two applications of the chemical with at least 7 days between applications (retreatment interval), the maximum number of stored potatoes to be treated is 10,000,000 hundredweight (cwt) or 500,000 tons. The total amount of product is 16,406 gallons or 16,078 gallons of active ingredient, during the growing season from now through July 2013. The use of 3-decen-2-one is permissible in the following Wisconsin counties: Adams, Barron, Chippewa, Columbia, Green Lake, Iowa, Jefferson, Juneau, Marquette, Portage, Richland, Sauk, Shawano, Waushara, Waupaca, Wood, Langlade, and Oneida.

This notice does not constitute a decision by EPA on the application itself. The regulations governing section 18 of FIFRA require publication of a notice of receipt of an application for a specific exemption proposing use of a new chemical (i.e., an active ingredient) which has not been registered by EPA. The notice provides an opportunity for public comment on the application.

The Agency, will review and consider all comments received during the comment period in determining whether to issue the specific exemption requested by the Wisconsin Department of Agriculture, Trade and Consumer Protection.

List of Subjects

Environmental protection, Pesticides and pests.

Dated: January 3, 2013.
Lois Rossi,
Director, Registration Division, Office of Pesticide Programs.

[FR Doc. 2013-00730 Filed 1-15-13; 8:45 am]

BILLING CODE 6560-50-P